DEPARTMENT OF ENERGY

Federal Energy Regulatory Commission

Combined Notice of Filings #1

Take notice that the Commission received the following electric rate filings:

Docket Numbers: ER10-1437-002.

Applicants: Tampa Electric Company.

Description: Supplement to June 30, 2014 Triennial Market Power Update of Tampa Electric Company.

Filed Date: 10/7/14.

Accession Number: 20141007-5234.

Comments Due: 5 p.m. ET 10/28/14.

Docket Numbers: ER14-1711-005.

Applicants: TC Ravenswood, LLC.

Description: Tariff Amendment per 35.17(b): Oil Burn Rate Schedule to be effective 10/7/2014.

Filed Date: 10/7/14.

Accession Number: 20141007-5162.

Comments Due: 5 p.m. ET 10/28/14.

Docket Numbers: ER14-1711-006.

Applicants: TC Ravenswood, LLC.

Description: Tariff Amendment per 35.17(b): Clarification of 10/7/14 Amendment to Restart 60 day clock effective 5/1/14 to be effective 5/1/2014.

Filed Date: 10/8/14.

Accession Number: 20141008-5092.

Comments Due: 5 p.m. ET 10/29/14.

Docket Numbers: ER14-1822-003.

Applicants: New York Independent System Operator, Inc.

Description: Tariff Amendment per 35.17(b): Amendment Unexecuted TCR Minimum Oil Burn Agreement to be effective 5/1/2014.

Filed Date: 10/7/14.

Accession Number: 20141007-5168.

Comments Due: 5 p.m. ET 10/28/14.

Docket Numbers: ER14-2469-001.

Applicants: NorthWestern Corporation.

Description: Compliance filing per 35: Additional Changes to Pending Order No 792 Compliance Filing (Montana) to be effective 7/22/2014.

Filed Date: 10/8/14.

Accession Number: 20141008-5083.

Comments Due: 5 p.m. ET 10/29/14.

Docket Numbers: ER14-2532-001.

Applicants: Tampa Electric Company.

Description: Compliance filing per 35: Amendment of Compliance Filing Under Order No. 792 to be effective 8/1/2014.

Filed Date: 10/7/14.

Accession Number: 20141007-5220.

Comments Due: 5 p.m. ET 10/28/14.

Docket Numbers: ER14-2544-001.

Applicants: PacifiCorp.

Description: Compliance filing per 35: OATT EIM Attachment T Revisions Compliance Filing to be effective 10/1/2014.

Filed Date: 10/8/14.

Accession Number: 20141008-5094.

Comments Due: 5 p.m. ET 10/29/14.

Docket Numbers: ER14-2548-003.

Applicants: Ocean State Power.

Description: Tariff Amendment per 35.17(b): Third Amendment to Notice of Succession to be effective 7/1/2014.

Filed Date: 10/8/14.

Accession Number: 20141008-5093.

Comments Due: 5 p.m. ET 10/29/14.

Docket Numbers: ER15-58-000.

Applicants: Palo Duro Wind Interconnection Services, LLC.

Description: Baseline eTariff Filing per 35.1: Palo Duro Wind Interconnection Services, LLC MBR Application to be effective 12/6/2014.

Filed Date: 10/7/14.

Accession Number: 20141007-5209.

Comments Due: 5 p.m. ET 10/28/14.

Docket Numbers: ER15-59-000.

Applicants: ITC Midwest LLC.

Description: § 205(d) rate filing per 35.13(a)(2)(iii): CIAC Agreement with CIPCO to be effective 12/8/2014.

Filed Date: 10/7/14.

Accession Number: 20141007-5210.

Comments Due: 5 p.m. ET 10/28/14.

Docket Numbers: ER15-60-000.

Applicants: Footprint Power Salem Harbor Development LP.

Description: Application for Deferral of Capacity Supply Obligation of Footprint Power Salem Harbor Development LP.

Filed Date: 10/7/14.

Accession Number: 20141007-5242.

Comments Due: 5 p.m. ET 10/28/14.

Docket Numbers: ER15-61-000.

Applicants: PJM Interconnection, L.L.C., American Transmission Systems, Incorporated.

Description: Compliance filing per 35: per 35.13(a)(2)(iii): Opinion No. 533 Compliance Filing—ATSI under EL11-54-002 to be effective 1/1/2015.

Filed Date: 10/8/14.

Accession Number: 20141008-5091.

Comments Due: 5 p.m. ET 10/29/14.

Docket Numbers: ER15-62-000.

Applicants: PacifiCorp.

Description: § 205(d) rate filing per 35.13(a)(2)(iii): Tri-State NITSA Rev 5 to be effective 10/1/2014.

Filed Date: 10/8/14.

Accession Number: 20141008-5096.

Comments Due: 5 p.m. ET 10/29/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 8, 2014.
Nathaniel J. Davis, Sr.,
Deputy Secretary.

[FR Doc. 2014-24580 Filed 10-15-14; 8:45 am]

BILLING CODE 6717-01-P